DEPARTMENT OF THE INTERIOR

Bureau of Land Management

[LLCA930000.L58790000.EU0000; CACA 50168 12]

Notice of Realty Action: Direct Sale of Public Land in Santa Clara County, CA

AGENCY: Bureau of Land Management, Interior.

ACTION: Notice of realty action.

SUMMARY: The Bureau of Land Management (BLM), Hollister Field Office, proposes to sell a parcel of public land consisting of approximately 15.97 acres, more or less, in Santa Clara County, California. The public land would be sold to Mariposa Peak, LLC, a California Limited Liability Company, for the appraised fair market value of $16,000.

DATES: Written comments regarding the proposed sale must be received by the BLM on or before December 22, 2011.

ADDRESSES: Written comments concerning the proposed sale should be sent to the Field Manager, BLM Hollister Field Office, 20 Hamilton Court, Hollister, California 95023.

FOR FURTHER INFORMATION CONTACT: Christine Sloand, Realty Specialist, BLM Hollister Field Office, 20 Hamilton Court, Hollister, California 95023, phone (831) 630-5022 or visit the Web site at http://www.blm.gov/ca/st/en/fo/hollister/realty.html.

SUPPLEMENTARY INFORMATION: The following parcel of public land is being proposed for direct sale to Mariposa Peak, LLC, the adjoining landowner, in accordance with Sections 203 and 209 of the Federal Land Policy and Management Act of 1976 (FLPMA), as amended (43 U.S.C. 1713 and 1719).

Mount Diablo Meridian

T. 11 S., R. 6 E.,

Sec. 2, lot 10.

The area described contains approximately 15.97 acres, more or less, in Santa Clara County.

The public land was first identified as suitable for disposal in the 1984 BLM Hollister Resource Management Plan (RMP) and remains available for sale under the 2007 Hollister RMP revision. The land is not needed for any other Federal purpose, and its disposal would be in the public interest. The purpose of the sale is to dispose of public land which is difficult and uneconomic to manage as part of the public lands because it is a small, isolated parcel lacking legal access. The BLM is proposing a direct sale to Mariposa Peak, LLC. Mariposa Peak, LLC, owns the adjoining land on three sides of the public land proposed for sale. A competitive sale is not considered appropriate because the public land lacks legal access and the only other adjoining landowner has informed the BLM they have no interest in purchasing the land and would not grant access to the public land. The BLM has completed a mineral potential report which concluded there are no known mineral values in the land proposed for sale. The BLM proposes that conveyance of the Federal mineral interests would occur simultaneously with the sale of the land.

On November 7, 2011, the above described land will be segregated from all forms of appropriation under the public land laws, including the mining laws, except for the sale provisions of FLPMA. Until completion of the sale, the BLM will no longer accept land use applications affecting the identified public lands, except applications for the amendment of previously filed right-of-way applications or existing authorizations to increase the term of the grants in accordance with 43 CFR 2802.15 and 2886.15. The segregation terminates upon issuance of a patent, publication in the Federal Register of a termination of the segregation, or on November 7, 2013, unless extended by the BLM State Director in accordance with 43 CFR 2711.1-2(d) prior to the termination date. The land would not be sold until at least January 6, 2012. Mariposa Peak, LLC, would be required to pay a $50 nonrefundable filing fee for processing the conveyance of the mineral interests. Any conveyance document issued would contain the following terms, conditions, and reservations:

1. A reservation of a right-of-way to the United States for ditches and canals constructed by authority of the United States under the Act of August 30, 1890 (43 U.S.C. 945);

2. A condition that the conveyance be subject to all valid existing rights of record;

3. An appropriate indemnification clause protecting the United States from claims arising out of the patentee's use, occupancy, or operations on the patented lands; and

4. Additional terms and conditions that the authorized officer deems appropriate.

Detailed information concerning the proposed land sale including the appraisal, planning and environmental documents, and a mineral report are available for review at the BLM Hollister Field Office at the address above, by calling (831) 630-5022 or visiting our Web site at http://www.blm.gov/ca/st/en/fo/hollister/realty.html.

Public comments regarding the proposed sale may be submitted in writing to the attention of the BLM Hollister Field Manager (see ADDRESSES above) on or before December 22, 2011. Comments received in electronic form, such as email or facsimile, will not be considered. Any adverse comments regarding the proposed sale will be reviewed by the BLM State Director or other authorized official of the Department of the Interior, who may sustain, vacate, or modify this realty action in whole or in part. In the absence of timely filed objections, this realty action will become the final determination of the Hollister Field Office.

Before including your address, phone number, email address, or other personal identifying information in your comment, be advised that your entire comment—including your personal identifying information—may be made publicly available at any time. While you can ask us in your comment to withhold from public review your personal identifying information, we cannot guarantee that we will be able to do so.

Authority: 43 CFR 2711.1-2(a) and (c).

Tom Pogacnik,
Deputy State Director, Natural Resources.

[FR Doc. 2011-28749 Filed 11-4-11; 8:45 am]

BILLING CODE 4310-40-P